DEPARTMENT OF TRANSPORTATION

Federal Aviation Administration

14 CFR Part 71

[Docket No. FAA-2005-20246; Airspace Docket No. 04-ASO-15]

RIN 2120-AA66

Establishment of Area Navigation Instrument Flight Rules Terminal Transition Routes (RITTR); Charlotte, NC

AGENCY: Federal Aviation Administration (FAA), DOT.

ACTION: Final rule.

SUMMARY: This action establishes four Area Navigation (RNAV) Instrument Flight Rules (IFR) Terminal Transition Routes (RITTR) in the Charlotte, NC, terminal area. RITTR's are low altitude Air Traffic Service (ATS) routes, based on RNAV, for use by aircraft having IFR-approved Global Positioning System (GPS)/Global Navigation Satellite System (GNSS) equipment. The purpose of RITTR is to expedite the handling of IFR overflight traffic through busy terminal airspace areas. The FAA is taking this action to enhance safety and the efficient use of the navigable airspace in the Charlotte, NC, terminal area.

DATES: Effective 0901 UTC, September 1, 2005.

FOR FURTHER INFORMATION CONTACT: Paul Gallant, Airspace and Rules, Office of System Operations and Safety, Federal Aviation Administration, 800 Independence Avenue, SW., Washington, DC 20591; telephone: (202) 267-8783.

SUPPLEMENTARY INFORMATION:

History

On March 3, 2005, the FAA published in the Federal Register a notice of proposed rulemaking to establish four RITTR's in the Charlotte, NC, terminal area (70 FR 10346). Interested parties were invited to participate in this rulemaking effort by submitting written comments on this proposal to the FAA. Two comments were received in response to the NPRM. With the exception of editorial changes, this amendment is the same as that proposed in the notice.

Discussion of Comments

One commenter wrote in support of the proposal and suggested that, as more routes are developed at additional terminal areas, there will be a need for pilot training on this subject. The FAA is preparing information for publication in the Aeronautical Information Manual to explain RITTRs and their use by pilots.

A second commenter also wrote in support of the proposal but added that the FAA should publish guidance to allow aircraft operating under visual flight rules (VFR) to use these routes when transitioning through terminal airspace. The FAA does not agree and does not plan to formulate such guidance at this time. RITTRs were developed specifically to provide routing for GNSS-equipped aircraft, that are operating on an IFR flight plan, to transition through busy terminal areas. The fixes/waypoints used to define the routes do not have associated visual landmarks for reference by VFR pilots when navigating through the area. There are a number of programs already in place to assist VFR pilots in either avoiding or transitioning through Class B airspace or other airspace areas, where needed. These programs include: the Charted VFR Flyway Planning Chart Program, the Terminal Area VFR Route Program, and the VFR Waypoint Chart Program. These flyways, routes and waypoints, when designated, are depicted on the appropriate VFR Terminal Area Charts. VFR aircraft desiring to transit Class B airspace must obtain air traffic control (ATC) clearance to operate in Class B airspace. ATC may approve or deny requests from VFR aircraft to operate in or through Class B airspace based on controller workload, operational limitations and traffic conditions. In this respect, pilots of a suitably equipped VFR aircraft could request transit through the area along a RITTR track, but the request would be subject to ATC approval as described above.

The Rule

This action amends Title 14 Code of Federal Regulations (14 CFR) part 71 by establishing four RITTR's, designated T-200, T-201, T-202, and T-203, in the Charlotte, NC, terminal area. These routes will be depicted in blue on the appropriate IFR en route low altitude charts. RITTRs are low altitude RNAV routes designed to facilitate the expeditious movement of IFR overflight traffic around or through certain congested terminal airspace areas. The routes may be used by GNSS-equipped aircraft that are capable of filing flight plan equipment suffix “/G.” The FAA is taking this action to enhance safety and facilitate the more flexible and efficient use of the navigable airspace for en route IFR aircraft transitioning through the Charlotte Class B airspace area.

Low altitude Area Navigation Routes are published in paragraph 6011 of FAA Order 7400.9M dated August 30, 2004 and effective September 16, 2004, which is incorporated by reference in 14 CFR 71.1. The routes listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6011 Area Navigation Routes.

* * * * *

T-200 Foothills, GA to Florence, SC [New]

Foothills, GA (ODF), VORTAC

(lat. 34°41′45″ N., long. 83°17′52″ W.)

RICHE, WP

(lat. 34°41′54″ N., long. 80°59′23″ W.)

Florence, SC (FLO), VORTAC

(lat. 34°13′59″ N., long. 79°39′26″ W.)

* * * * *

T-201 Columbia, SC to JOTTA [New]

Columbia, SC (CAE), VORTAC

(lat. 33°51′26″ N., long. 81°03′14″ W.)

HUSTN, WP

(lat. 34°53′20″ N., long. 80°34′20″ W.)

LOCAS, WP

(lat. 35°12′05″ N., long. 80°26′45″ W.)

JOTTA, WP

(lat. 36°00′53″ N., long. 80°50′58″ W.)

* * * * *

T-202 RICHE to GANTS [New]

RICHE, WP

(lat. 34°41′54″ N., long. 80°59′23″ W.)

HUSTN, WP

(lat. 34°53′20″ N., long. 80°34′20″ W.)

GANTS, WP

(lat. 35°27′12″ N., long. 80°06′16″ W.)

* * * * *

T-203 Columbia, SC to Pulaski, VA [New]

Columbia, SC (CAE), VORTAC

(lat. 33°51′26″ N., long. 81°03′14″ W.)

LOCKS, WP

(lat. 34°55′40″ N., long. 81°17′37″ W.)

Barretts Mountain, NC (BZM), VOR/DME

(lat. 35°52′08″ N., long. 81°14′26″ W.)

Pulaski, VA (PSK), VORTAC

(lat. 37°05′16″ N., long. 80°42′46″ W.)

* * * * *

Issued in Washington, DC, on June 8, 2005.
Edith V. Parish,
Acting Manager, Airspace and Rules.

[FR Doc. 05-11760 Filed 6-14-05; 8:45 am]

BILLING CODE 4910-13-P